DEPARTMENT OF TRANSPORTATION

Surface Transportation Board

[STB Docket No. AB-491 (Sub-No. 1X)]

R.J. Corman Railroad Company/Pennsylvania Lines, Inc.—Abandonment Exemption—In Clearfield and Centre Counties, PA

On December 14, 2000, R.J. Corman Railroad Company/Pennsylvania Lines, Inc. (RJCP) filed with the Surface Transportation Board (Board) a petition under 49 U.S.C. 10502 for exemption from the provisions of 49 U.S.C. 10903 to abandon approximately 22.7 miles of the Wallaceton Branch in Clearfield and Centre Counties, PA. The segments of the Wallaceton Branch proposed for abandonment are: (1) The Wallaceton Secondary, between approximately milepost 9.2, near Bigler, and approximately milepost 11.7, near Wallaceton; (2) the Mills Industrial Track, between approximately milepost 11.2, near Wallaceton, and approximately milepost 24.5, near Osceola Mills; (3) the Bigler Industrial Track, between approximately mileposts 31.4 and 31.8; (4) the Moshannon-Clearfield Industrial Track, between approximately mileposts 0.0 and 4.0; (5) the Trout Run Branch, between approximately mileposts 0.0 and 2.2; and (6) the Big Run Branch, between approximately mileposts 0.0 and 0.3. The lines traverse U.S. Postal Service Zip Codes 16825, 16876, 16866, 16666, 16938, 16879, 16942, 16701, 17841, and 17506.

The lines do not contain federally granted rights-of-way. Any documentation in RJCP's possession will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by April 3, 2001.

Any offer of financial assistance (OFA) under 49 CFR 1152.27(b)(2) will be due no later than 10 days after service of a decision granting the petition for exemption. Each OFA must be accompanied by a $1,000 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than January 23, 2001. Each trail use request must be accompanied by a $150 filing fee. See 49 CFR 1002.2(f)(27).

All filings in response to this notice must refer to STB Docket No. AB-491 (Sub-No. 1X) and must be sent to: (1) Surface Transportation Board, Office of the Secretary, Case Control Unit, 1925 K Street, N.W., Washington, DC 20423-0001; and (2) Kevin M. Sheys and Edward J. Fishman, Oppenheimer Wolff & Donnelly LLP, 1350 Eye Street, N.W., Suite 200, Washington, DC 20005-3324. Replies to the RJCP petition are due on or before January 23, 2001.

Persons seeking further information concerning abandonment procedures may contact the Board's Office of Public Services at (202) 565-1592 or refer to the full abandonment or discontinuance regulations at 49 CFR part 1152. Questions concerning environmental issues may be directed to the Board's Section of Environmental Analysis (SEA) at (202) 565-1545. [TDD for the hearing impaired is available at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our website at WWW.STB.DOT.GOV.”

Decided: December 22, 2000.
By the Board, David M. Konschnik, Director, Office of Proceedings.
Vernon A. Williams,
Secretary.

[FR Doc. 01-27 Filed 1-2-01; 8:45 am]

BILLING CODE 4915-00-P